DEPARTMENT OF DEFENSE

Department of the Army

Notice of Availability for Exclusive, Non-Exclusive, or Partially-Exclusive Licensing of an Invention Concerning the Use of Magnetism To Inactivate, Kill and/or Remove Malaria Parasites From Transfused Blood and Apparatus and Kits for Accomplishing the Same

AGENCY: Department of the Army, DoD.

ACTION: Notice.

SUMMARY: The invention relates to preventing and/or reducing the incidence of transfusion-related malaria, and the use of magnetism to accomplish this. Announcement is made of the availability for licensing of the invention set forth in U.S. Provisional Patent Application Serial No. 61/584,977, entitled “Use of Magnetism to Inactivate, Kill and/or Remove Malaria Parasites from Transfused Blood and Apparatus and Kits for Accomplishing the same,” filed on January 10, 2012. The United States Government, as represented by the Secretary of the Army, has rights to this invention.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to methods of preventing or reducing the incidence of transfusion-related malaria, and, in particular, to inactivating, killing and/or removing malaria parasites from blood supplies such as whole blood, platelets, plasma or other components of blood.

Brenda S. Bowen,
Army Federal Register Liaison Officer.

[FR Doc. 2012-1657 Filed 1-25-12; 8:45 am]

BILLING CODE 3710-08-P